DEPARTMENT OF JUSTICE

Antitrust Division

Notice Pursuant to the National Cooperative Research and Production Act of 1993—1EdTech Consortium, Inc. (Formerly IMS Global Learning Consortium, Inc.)

Notice is hereby given that, on June 1, 2022, pursuant to Section 6(a) of the National Cooperative Research and Production Act of 1993, 15 U.S.C. 4301 et seq. (“the Act”), 1EdTech Consortium, Inc. f/k/a IMS Global Learning Consortium, Inc. (“1EdTech Consortium”) has filed written notifications simultaneously with the Attorney General and the Federal Trade Commission disclosing changes in its membership. The notifications were filed for the purpose of extending the Act's provisions limiting the recovery of antitrust plaintiffs to actual damages under specified circumstances. IMS Global Learning Consortium, Inc. has changed its name to 1EdTech Consortium, Inc. Specifically, Arizona Department of Education, Phoenix, AZ; AvePoint EduTech Pte Ltd., Singapore, SINGAPORE; Carnegie Learning, Pittsburgh, PA; Charlotte-Mecklenberg Board of Education, Charlotte, NC; Corvallis School District, Corvallis, OR; Guilford County Schools, Greensboro, NC; Hamilton County Schools (TN), Chattanooga, TN; Medway Public Schools, Medway, MA; Mesquite Independent School District, Mesquite, TX; Newton County Schools, Covington, GA; Scottsdale Unified School District #48, Scottsdale, AZ; Signature Digital, Leicester, UNITED KINGDOM; Spring-Ford Area School District (PA), Royersford, PA; and Williamson County Schools, Franklin, TN, have been added as parties to this venture.

Also, E-Locker, Richmond, CANADA; ACT, Iowa City, IA; Navigatr, Leeds, UNITED KINGDOM; UChicago Impact, Chicago, IL; Ric ONE, Rye Brook, NY; Research Center for Computing & Multimedia, Hosei University, Tokyo, JAPAN; and Concentric Sky, Eugene, OR, have withdrawn as parties to this venture.

No other changes have been made in either the membership or planned activity of the group research project. Membership in this group research project remains open, and 1EdTech Consortium intends to file additional written notifications disclosing all changes in membership.

On April 7, 2000, IMS Global Learning Consortium filed its original notification pursuant to Section 6(a) of the Act. The Department of Justice published a notice in the Federal Register pursuant to Section 6(b) of the Act on September 13, 2000 (65 FR 55283).

The last notification was filed with the Department on March 17, 2022. A notice was published in the Federal Register pursuant to Section 6(b) of the Act on May 3, 2022 (87 FR 26227).

Suzanne Morris,
Chief, Premerger and Division Statistics, Antitrust Division.

[FR Doc. 2022-12900 Filed 6-14-22; 8:45 am]

BILLING CODE 4410-11-P